ENVIRONMENTAL PROTECTION AGENCY

40 CFR Part 52

[EPA-R05-OAR-2015-0196; FRL-9940-11-Region 5]

Air Plan Approval; Minnesota and Michigan; Revision to Taconite Federal Implementation Plan

AGENCY: Environmental Protection Agency (EPA).

ACTION: Proposed rule; reopening of public comment period.

SUMMARY: Environmental Protection Agency (EPA) is reopening the public comment period for a proposed rule published October 22, 2015. On November 23, 2015, EPA received a request from the National Tribal Air Association to extend the public comment period an additional 120 days from the closing date of November 23, 2015 and from the Fond du Lac Band of Lake Superior Chippewa for an unspecified period of time. EPA is, therefore, reopening the comment period for an additional 30 days after November 23, 2015.

DATES: The comment period for the proposed rule published on October 22, 2015 (80 FR 64160), is reopened. Comments must be received on or before December 23, 2015.

ADDRESSES: Submit your comments, identified by Docket ID No. EPA-R05-OAR-2015-0196, to: Douglas Aburano, Chief, Attainment Planning and Maintenance Section, Air Programs Branch (AR-18J), U.S. Environmental Protection Agency, 77 West Jackson Boulevard, Chicago, Illinois 60604, (312) 353-6960, aburano.douglas@epa.gov. Additional instructions on how to comment can be found in the notice of proposed rulemaking published October 22, 2015 (80 FR 64160).

FOR FURTHER INFORMATION CONTACT: Steven Rosenthal, Environmental Engineer, Attainment Planning & Maintenance Section, Air Programs Branch (AR-18J), U.S. Environmental Protection Agency, Region 5, 77 West Jackson Boulevard, Chicago, Illinois 60604, (312) 886-6052, rosenthal.steven@epa.gov.

SUPPLEMENTARY INFORMATION: On October 22, 2015, EPA proposed revisions to a Federal implementation plan (FIP) addressing the requirement for best available retrofit technology (BART) for taconite plants in Minnesota and Michigan. In response to petitions for reconsideration, we proposed to revise the nitrogen oxides (NOX) limits for taconite furnaces at facilities owned and operated by Cliffs Natural Resources (Cliffs) and ArcelorMittal USA LLC (ArcelorMittal). We also proposed to revise the sulfur dioxide (SO2) requirements at two of Cliffs' facilities. We proposed these changes because new information had come to light that was not available when we originally promulgated the FIP on February 6, 2013.

Dated: December 4, 2015.
Susan Hedman,
Regional Administrator, Region 5.

[FR Doc. 2015-31523 Filed 12-15-15; 8:45 am]

BILLING CODE 6560-50-P